NUCLEAR REGULATORY COMMISSION

Notice of Issuance of Regulatory Guide

AGENCY: Nuclear Regulatory Commission.

ACTION: Notice of Issuance and Availability of Regulatory Guide 1.114, Revision 3, “Guidance to Operators at the Controls and to Senior Operators in the Control Room of a Nuclear Power Unit.”

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 3 of Regulatory Guide 1.114, “Guidance to Operators at the Controls and to Senior Operators in the Control Room of a Nuclear Power Unit,” was issued with a temporary identification as Draft Regulatory Guide DG-1194. This guide describes a method that the staff of the NRC considers acceptable for complying with the Commission's regulations that require the presence of an operator at the controls of a nuclear power unit and a senior operator in the control room from which the nuclear power unit is being operated. In addition, this guide clarifies and provides guidance on the acceptable boundaries of the control room. The “vital area,” as identified in Title 10 Section 73.2, “Definitions,” of the Code of Federal Regulations (10 CFR 73.2), and 10 CFR 73.55(c) serves as the basis for the “control room vital area” as used in this regulatory guide.

II. Further Information

In April 2008, DG-1194 was published with a public comment period of 60 days from the issuance of the guide. The public comment period closed on June 6, 2008. The staff's responses to the public comments are located in the NRC's Agencywide Documents Access and Management System (ADAMS), Accession Number ML082380256.

Electronic copies of Regulatory Guide 1.114 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 21st day of October, 2008.
For the Nuclear Regulatory Commission.
Andrea D. Valentin,
Chief, Regulatory Guide Development Branch, Division of Engineering, Office of Nuclear Regulatory Research.

[FR Doc. E8-25700 Filed 10-27-08; 8:45 am]

BILLING CODE 7590-01-P